FEDERAL COMMUNICATIONS COMMISSION

47 CFR Part 73

[DA 00-999; MM Docket No. 00-74; RM-9862]

Radio Broadcasting Services; Sterling, CO

AGENCY: Federal Communications Commission.

ACTION: Proposed rule.

SUMMARY: This document requests comments on a petition for rule making filed on behalf of Ling Broadcasting requesting the allotment of Channel 248C3 to Sterling, Colorado, as that locality's third local FM transmission service. Coordinates used for this proposal are 40-37-32 NL and 103-12-25 WL.

DATES: Comments must be filed on or before June 26, 2000, and reply comments on or before July 11, 2000.

ADDRESSES: Secretary, Federal Communications Commission, Washington, DC 20554. In addition to filing comments with the FCC, interested parties should serve the petitioner's counsel, as follows: A. Wray Fitch, III, Esq., Gamon & Grange, P.C., 8280 Greensboro Drive, 7th Floor, McLean, VA 22102-3807.

FOR FURTHER INFORMATION CONTACT: Nancy Joyner, Mass Media Bureau, (202) 418-2180.

SUPPLEMENTARY INFORMATION: This is a synopsis of the Commission's Notice of Proposed Rule Making, MM Docket No. 00-74, adopted April 26, 2000, and released May 5, 2000. The full text of this Commission decision is available for inspection and copying during normal business hours in the FCC's Reference Information Center (Room CY-A257), 445 Twelfth Street, SW., Washington, DC. The complete text of this decision may also be purchased from the Commission's copy contractor, International Transcription Service, Inc., 1231 20th Street, NW., Washington, DC 20036, (202) 857-3800.

Provisions of the Regulatory Flexibility Act of 1980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contacts.

For information regarding proper filing procedures for comments, See 47 CFR 1.415 and 1.420.

Federal Communications Commission.
John A. Karousos,
Chief, Allocations Branch, Policy and Rules Division, Mass Media Bureau.

[FR Doc. 00-13141 Filed 5-24-00; 8:45 am]

BILLING CODE 6712-01-P